ENVIRONMENTAL PROTECTION AGENCY

40 CFR Part 131

[EPA-HQ-OW-2015-0174; FRL-9936-29-OW]

Extension of Public Comment Period for the Revision of Certain Federal Water Quality Criteria Applicable to Washington

AGENCY: Environmental Protection Agency (EPA).

ACTION: Notice; extension of comment period.

SUMMARY: The Environmental Protection Agency (EPA) is extending the comment period for the proposed rule, “Revision of Certain Federal Water Quality Criteria Applicable to Washington.” In response to stakeholder requests, EPA is extending the comment period for an additional 45 days, from November 13, 2015, to December 28, 2015. EPA will offer virtual public hearings on the proposed rule via the Internet in December 2015.

DATES: The comment period for the proposed rule published September 14, 2015 (80 FR 55063) is extended. Comments must be received on or before December 28, 2015.

ADDRESSES: Submit your comments, identified by Docket ID No. EPA-HQ-OW-2015-0174, at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Erica Fleisig, Office of Water, Standards and Health Protection Division (4305T), Environmental Protection Agency, 1200 Pennsylvania Avenue NW., Washington, DC 20460; telephone number: (202) 566-1057; email address: fleisig.erica@epa.gov.

SUPPLEMENTARY INFORMATION: On September 14, 2015, EPA published the proposed rule, “Revision of Certain Federal Water Quality Criteria Applicable to Washington” in the Federal Register (80 FR 55063). EPA proposes to revise the current federal Clean Water Act human health criteria applicable to waters under the state of Washington's jurisdiction to ensure that the criteria are set at levels that will adequately protect Washington residents, including tribes with treaty-protected rights, from exposure to toxic pollutants.

The original deadline to submit comments on the proposed rule was November 13, 2015. This action extends the comment period for 45 days. Written comments must now be received by December 28, 2015.

Additionally, EPA will offer virtual public hearings on the proposed rule via the Internet in December 2015. For details on these public hearings, such as the date and time as well as registration information, please visit http://www2.epa.gov/wqs-tech/water-quality-standards-regulations-washington.

Dated: October 20, 2015.
Kenneth J. Kopocis,
Deputy Assistant Administrator, Office of Water.

[FR Doc. 2015-27474 Filed 10-27-15; 8:45 am]

BILLING CODE 6560-50-P